DEPARTMENT OF THE INTERIOR

Fish and Wildlife Service

[FWS-R3-R-2012-N270; FXRS85550300000-XXX-FF03R04000]

Draft Long Range Transportation Plan for U.S. Fish and Wildlife Service Lands in the Midwest Region

AGENCY: Fish and Wildlife Service, Interior.

ACTION: Notice of availability; request for comments.

SUMMARY: We, the U.S. Fish and Wildlife Service (Service), announce the availability of a draft long range transportation plan for public review and comment. The Draft Long Range Transportation Plan outlines a strategy for improving and maintaining transportation assets that provide access to Service-managed lands in the Midwest Region (Illinois, Indiana, Iowa, Michigan, Minnesota, Missouri, Ohio, and Wisconsin) over the next 20 years.

DATES: We must receive written comments on or before December 18, 2013.

ADDRESSES: Document Review: If you wish to review the draft plan, you may obtain a copy by visiting our Web site at http://www.fws.gov/midwest/planning/currentplans.html.

Alternatively, you may contact Brandon Jutz, Regional Transportation Coordinator, Midwest Region, U.S. Fish and Wildlife Service, 5600 American Boulevard West, Suite 990, Bloomington, MN (612-713-5407).

Submitting Comments: If you wish to comment on the plan, you may submit your comments in writing by any one of the following methods:

• U.S. mail: Regional Transportation Coordinator, at the above address.

• Hand-delivery: Regional Transportation Coordinator, at the above address.

• Fax: 612-713-5288.

• Email: Brandon_Jutz@fws.gov.

For additional information about submitting comments, see the “Public Availability of Comments” section below.

FOR FURTHER INFORMATION CONTACT: Brandon Jutz, at the above address, phone number, or email.

SUPPLEMENTARY INFORMATION:

Introduction

With this notice, we make the Draft LRTP for the Midwest Region of the U.S. Fish and Wildlife Service available for public review and comment. When finalized, the LRTP will apply to Service-managed lands in Illinois, Indiana, Iowa, Michigan, Minnesota, Missouri, Ohio, and Wisconsin.

Background

The Moving Ahead for Progress in the 21st Century Act (Map-21) requires all Federal land management agencies to conduct long-range transportation planning in a manner that is consistent with metropolitan planning organization and State departments of transportation planning. This LRTP was initiated within the Service to achieve the following:

• Establish a defensible structure for sound transportation planning and decision-making.

• Establish a vision, mission, goals, and objectives for transportation planning in the Service's Midwest Region.

• Implement coordinated and cooperative transportation partnerships in an effort to improve the Service's transportation infrastructure.

• Bring the Service into compliance with the Moving Ahead for Progress in the 21st Century Act (MAP-21), which requires all Federal land management agencies (FLMA) to conduct long-range transportation planning in a manner that is consistent with metropolitan planning organization (MPO) and State department of transportation (DOT) planning.

• Integrate transportation planning and funding for wildlife refuges and fish hatcheries into existing and future Service management plans and strategies—e.g., comprehensive conservation plans (CCPs) and comprehensive hatchery management plans (CHMPs).

• Increase awareness of Alternative Transportation Systems (ATS) and associated benefits.

• Develop best management practices (BMP) for transportation improvements on Service lands.

• Serve as a pilot project for the implementation of a region-level transportation planning process within the Service.

LRTP Mission, Goals, and Objectives

Through a collaborative effort, the Refuge and Fisheries Programs, in cooperation with the planning and visitor services programs within the Service's Midwest Region, have contributed to defining the mission, goals, and objectives presented in this document. The resulting mission, goals, and objectives are intended to provide a systematic approach to guide the process for evaluating and selecting transportation improvement for the Service lands in the Midwest Region. These guiding principles have shaped the development, conclusions, and recommendations of this LRTP.

Mission

To support the Service's mission by connecting people to fish, wildlife, and their habitats through strategic implementation of transportation programs.

Goals and Objectives

This long-range transportation plan has six categories of goals: Resource protection, safety and condition, welcome and orientation, planning, partnerships, and sustainability. Under each goal, we present distinct objectives that move us to the goal.

• Natural Resource Protection: Ensure that the transportation program helps to conserve and enhance fish, wildlife, and plant resources and their habitats.

Objective 1: Identify, research, and adopt BMPs for planning, design, construction, and maintenance that mitigate impacts of transportation.

Objective 2: Reduce transportation-related conflicts with fish and wildlife corridors on or adjacent to Service lands.

• Safety and Conditions: Provide a safe and reliable transportation network to and within Service lands.

Objective 1: Identify and reduce safety problems and modal conflicts to and within Service lands.

Objective 2: Ensure that mission-critical transportation assets are maintained in “good” condition.

• Welcome and Orientation: Develop and maintain a transportation network that enhances the welcoming and orienting experience of visitors.

Objective 1: Provide public information to enable visitors to easily get to refuges and hatcheries and to use their sites.

Objective 2: Engage the visitors with compelling information so he/she has a better understanding of the purpose of wildlife conservation and enjoyment of natural resources.

Objective 3: Create a consistent and recognizable identity throughout all Service units by using standard materials for readily observed physical elements associated with the transportation system.

• Planning: Integrate appropriate transportation planning into Service plans and processes.

Objective 1: Ensure consistency and coordination between the project, unit, regional, and national levels of planning.

Objective 2: Define need for infrastructure improvements, and prioritize projects using a scientific and objective process.

• Partnerships: Develop partnerships to leverage resources and develop integrated transportation solutions.

Objective 1: Maximize leveraging opportunities for both funding and resources.

Objective 2: Work with partners to address shared transportation issues that impact Service goals.

• Sustainability: Adopt and promote sustainable transportation practices.

Objective 1: Address climate change and other environmental factors at all levels of transportation planning, design, project delivery, and maintenance.

Objective 2: Improve access to and within Service lands by transit or non-motorized transportation and information systems.

Objective 3: Reduce fossil fuel energy consumption.

Next Steps

After this comment period ends, we will analyze the comments and address them in the form of a final LRTP.

Public Availability of Comments

Before including your address, phone number, email address, or other personal identifying information in your comment, you should be aware that your entire comment—including your personal identifying information—may be made publicly available at any time. While you can ask us in your comment to withhold your personal identifying information from public review, we cannot guarantee that we will be able to do so.

Charles M. Wooley,
Acting Regional Director, Midwest Region, U.S. Fish and Wildlife Service.

[FR Doc. 2013-27433 Filed 11-15-13; 8:45 am]

BILLING CODE 4310-55-P